ENVIRONMENTAL PROTECTION AGENCY

[EPA-HQ-OAR-2011-0135; FRL—9981-94-OEI]

Information Collection Request Submitted to OMB for Review and Approval; Comment Request; Sulfur Content of Motor Vehicle Gasoline, Gasoline Additives, Denatured Fuel Ethanol and Other Oxygenates, Certified Ethanol Denaturant, and Blender-Grade Pentane (Renewal)

AGENCY: Environmental Protection Agency (EPA).

ACTION: Notice.

SUMMARY: The Environmental Protection Agency (EPA) is planning to submit an information collection request (ICR), Sulfur Content of Motor Vehicle Gasoline, Gasoline Additives, Denatured Fuel Ethanol and Other Oxygenates, Certified Ethanol Denaturant, and Blender-Grade Pentane (EPA ICR Number 1907.10, OMB Control Number 2060-0437) to the Office of Management and Budget (OMB) for review and approval in accordance with the Paperwork Reduction Act (PRA). This is a proposed reinstatement of the ICR, which was approved through May 31, 2018. Public comments were previously requested via the Federal Register on April 10, 2018 during a 60-day comment period. This notice allows for an additional 30 days for public comments. A fuller description of the ICR is given below, including its estimated burden and cost to the public. An agency may not conduct or sponsor and a person is not required to respond to a collection of information unless it displays a currently valid OMB control number.

DATES: Comments must be submitted on or before April 15, 2019.

ADDRESSES: Submit your comments, referencing Docket ID No. EPA-HQ-OAR-2011-0135, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Thomas J. Boylan, Fuels Compliance Policy Center, Environmental Protection Agency, 1200 Pennsylvania Ave. NW, 6405A, Washington, DC 20460; telephone number: 202-564-1075; fax number: 202-565-2085; email address: boylan.thomas@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The requirements covered under this ICR are included in the Tier 3 Final Rule (79 FR 23414, April 28, 2014) and corresponding regulations at 40 CFR subparts H and O. The scope of the recordkeeping and reporting requirements for each party in the gasoline, gasoline additive, oxygenate, certified ethanol denaturant, and blender-grade pentane distribution systems, and therefore the cost to that party, reflects the party's opportunity to create, control or alter the product's sulfur content. As a result, petroleum refiners/importers, gasoline additive producers/importers, oxygenate producers/importers, certified ethanol denaturant producers/importers, and blender-grade pentane producers and importers have more significant requirements, which are necessary both for their own tracking and that of downstream parties, and for EPA enforcement. The Tier 3 program contains recordkeeping and reporting requirements that apply to gasoline additive manufacturers, oxygenate producers/importers, blender-grade pentane producers/importers, and producers/importers of certified ethanol denaturants that are used to produce denatured fuel ethanol. In large part these requirements are consistent with common business practices.

Form Numbers:

OMB Control No. | EPA Form ID | EPA Form No.
2060-0437 | GSF0302 | 5900-312
2060-0437 | GSF0402 | 5900-321
2060-0437 | RFG1800 | 5900-345
2060-0437 | RFG1900 | 5900-346
2060-0437 | RFG2600 | 5900-347

Respondents/affected entities: Gasoline Refiners/Importers, Oxygenate Producers, Oxygenate Blenders, Gasoline Additive Manufacturers, Certified Ethanol Denaturant Producers, Butane and Pentane Manufacturers.

Respondent's obligation to respond: Mandatory.

Estimated number of respondents: 3,953 (total).

Frequency of response: Annually, monthly, and on occasion.

Total estimated burden: 55,656 hours (per year). Burden is defined at 5 CFR 1320.03(b).

Total estimated cost: $4,354,200 (per year), includes no annualized capital or operation & maintenance costs.

Changes in Estimates: There is an increase in responses due to a more comprehensive understanding of the scale of the oxygenate production and importation industry. Despite this growth in responses, total burden hours decreased due to Agency experience in implementing the Tier 3 gasoline sulfur program.

Courtney Kerwin,
Director, Regulatory Support Division.

[FR Doc. 2019-04795 Filed 3-14-19; 8:45 am]

BILLING CODE 6560-50-P